DEPARTMENT OF HEALTH AND HUMAN SERVICES

National Institutes of Health

Office of the Director, National Institutes of Health; Amended Notice of Meeting

Notice is hereby given of a change in the meeting of the Recombinant DNA Advisory Committee, December 3, 2007, 8 a.m. to December 5, 2007, 10:30 a.m., National Institutes of Health, Building 31, Floor 6C, 31 Center Drive, Conference Room 10, Bethesda, MD, 20892, which was published in the Federal Register on November 13, 2007, 72 FR 218 page 63917.

On December 4, 2007, the Recombinant DNA Advisory Committee meeting will be held from 8 a.m. to 11:30 a.m. and begin again at 2:30 p.m. to 5:30 p.m. instead of meeting from 8 a.m. to 3 p.m. The meeting is open to the public.

Dated: November 15, 2007.
Jennifer Spaeth,
Director, Office of Federal Advisory Committee Policy.

[FR Doc. 07-5814 Filed 11-23-07; 8:45 am]

BILLING CODE 4140-01-M